DEPARTMENT OF DEFENSE

Department of the Navy

Notice of Availability for Donation of the Amphibious Assault Ship ex-NEW ORLEANS (LPH 11) and the Aircraft Carrier ex-RANGER (CV 61); Correction

AGENCY: Department of the Navy, DOD.

ACTION: Notice; Correction.

SUMMARY: The Naval Sea Systems Command published a document in the Federal Register of January 15, 2004, concerning a Notice of Availability for Donation of the Amphibious Assault Ship ex-NEW ORLEANS (LPH 11) and the Aircraft Carrier ex-RANGER (CV 61). The document erroneously listed the ex-RANGER (CV 61) as available for donation.

FOR FURTHER INFORMATION CONTACT: Ms. Gloria Carvalho, (202) 781-0485.

Correction

In the Federal Register of January 15, 2004, in FR Doc. 04-872, on page 2337, in the second column, omit all references to ex-RANGER (CV 61), and correct the “Summary” caption to read:

SUMMARY: The Department of the Navy hereby gives notice of the availability for donation, under the authority of 10 U.S.C. section 7306, of the amphibious assault ship ex-NEW ORLEANS (LPH 11) located at the MARAD National Defense Reserve Fleet, Suisun Bay, Benecia, CA. Eligible recipients include: (1) Any State, Commonwealth, or possession of the United States or any municipal corporation or political subdivision thereof; (2) the District of Columbia; or (3) any organization incorporated as a non-profit entity under section 501 of the Internal Revenue Code. The transfer of a ship for donation under 10 U.S.C section 7306 shall be made at no cost to the United States government. The donee will be required to maintain the ship as a static museum/memorial in a condition that is satisfactory to the Secretary of the Navy. Prospective donees must submit a comprehensive application that addresses the significant financial, technical, environmental and curatorial responsibilities associated with donated Navy ships. Further application information can be found on the Navy Ship Donation Program Web site: http://www.navsea.navy.mil/ndp. All vessels currently in a donation hold status, including the ex-NEW ORLEANS (LPH 11), will be reviewed by the Chief of Naval Operations during the annual Ship Disposition Review (SDR) process, at which time a determination will be made whether or not to extend the donation hold status. This notice of availability will expire in 6 months from the date of issue.

Dated: February 2, 2004.
J.T. Baltimore,
Lieutenant Commander, Judge Advocate General's Corps, U.S. Navy, Alternate Federal Register Liaison Officer.

[FR Doc. 04-2946 Filed 2-10-04; 8:45 am]

BILLING CODE 3810-FF-P